DEPARTMENT OF THE INTERIOR

Minerals Management Service

Outer Continental Shelf, Gulf of Mexico Region, Proposed Eastern Planning Area Final Environmental Impact Statement

AGENCY: Minerals Management Service, Interior.

ACTIONS: Notice of availability of the final environmental impact statement on proposed eastern planning area oil and gas lease sales 189 and 197.

SUMMARY: The U.S. Department of the Interior, Minerals Management Service (MMS) has prepared a final environmental impact statement (EIS) on two proposed oil and gas lease sales in the Eastern Planning Area (EPA) Outer Continental Shelf (OCS) of the Gulf of Mexico (GOM).

FOR FURTHER INFORMATION CONTACT: Minerals Management Service, Gulf of Mexico OCS Region, 1201 Elmwood Park Boulevard, New Orleans, Louisiana 70123-2394, Mr. Dennis Chew, telephone (504) 736-2793.

SUPPLEMENTARY INFORMATION: This EIS addresses two proposed Federal actions that offer for lease OCS areas in the EPA of the GOM that may contain economically recoverable oil and gas resources. Because each proposed lease sale and its projected activities is very similar, a single EIS has been prepared for the two proposed EPA lease sales scheduled in the Outer Continental Shelf Oil and Gas Leasing Program: 2002-2007 (the 5-Year Program). Under the 5-Year Program, proposed Lease Sale 189 is scheduled for 2003, while proposed Lease Sale 197 is scheduled for 2005. At the completion of this EIS process, a decision will be made only for proposed Lease Sale 189. An additional National Environmental Policy Act review will be conducted in the year prior to proposed Lease Sale 197 to address any new relevant information.

EIS Availability: To find out which libraries along the Gulf of Mexico Coast have copies of the final EIS for review or to obtain single copies of the final EIS, you may contact the Minerals Management Service, Gulf of Mexico OCS Region, Public Information Office (MS 5034), 1201 Elmwood Park Boulevard, Room 114, New Orleans, Louisiana 70123-2394 (1-800-200-GULF). A list of libraries and their locations is also available on the MMS Internet Web site at http://www.gomr.mms.gov.

Dated: May 20, 2003.
R.M. “Johnnie” Burton,
Director, Minerals Management Service.
Dated: May 27, 2003.
Willie R. Taylor,
Director, Office of Environmental Policy and Compliance.

[FR Doc. 03-13959 Filed 6-3-03; 8:45 am]

BILLING CODE 4310-MR-P